DEPARTMENT OF HOMELAND SECURITY

Federal Emergency Management Agency

[Docket No. FEMA-2014-0002]

Final Flood Hazard Determinations; Correction

AGENCY: Federal Emergency Management Agency; DHS.

ACTION: Final Notice; correction.

SUMMARY: On May 15, 2014, the Federal Emergency Management Agency (FEMA) published in the Federal Register a final flood hazard determination notice that contained an erroneous table. This notice provides corrections to that table, to be used in lieu of the information published at 79 FR 27892. The table provided here represents the final flood hazard determinations and community affected for Robeson County, North Carolina, and Incorporated Areas.

Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the community listed in the table below.

The FIRM and FIS report are the basis of the floodplain management measures that a community is required either to adopt or to show evidence of having in effect in order to qualify or remain qualified for participation in FEMA's National Flood Insurance Program (NFIP). In addition, the FIRM and FIS report are used by insurance agents and others to calculate appropriate flood insurance premium rates for buildings and the contents of those buildings.

DATES: The effective date of July 7, 2014 which has been established for the FIRM and, where applicable, the supporting FIS report showing the new or modified flood hazard information for the community.

ADDRESSES: The FIRM, and if applicable, the FIS report containing the final flood hazard information for the community is available for inspection at the Community Map Repository address listed in the table below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA makes the final determinations listed below for the new or modified flood hazard information for the community listed. Notification of these changes has been published in newspaper(s) of local circulation and ninety (90) days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for the community or online through the FEMA Map Service Center at www.msc.fema.gov. The flood hazard determinations are made final in the watersheds and/or community listed in the table below.

Correction

In the final flood hazard determination notice published at 79 FR 27892 in the May 15, 2014, issue of the Federal Register, FEMA published a table titled “Robeson County, North Carolina, and Incorporated Areas”. This table contained inaccurate information as to the community map repository for the Unincorporated Areas of Robeson County, North Carolina. In this document, FEMA is publishing a table containing the accurate information. The information provided below should be used in lieu of that previously published.

Community | Community map repository address
Robeson County, North Carolina, and Incorporated Areas
Docket No.: FEMA-B-1287
Unincorporated Areas of Robeson County | Robeson County, 701 North Elm Street, Lumberton, NC 28359.

(Catalog of Federal Domestic Assistance No. 97.022, “Flood Insurance.”)

Dated: July 11, 2014.
Roy E. Wright,
Deputy Associate Administrator for Mitigation, Department of Homeland Security, Federal Emergency Management Agency.

[FR Doc. 2014-18090 Filed 7-31-14; 8:45 am]

BILLING CODE 9110-12-P